DEPARTMENT OF ENERGY

Federal Energy Regulatory Commission

[Project No. 7679-009]

Daniel N. Evans; James Bocell; Notice of Transfer of Exemption

1. On February 24, 2022, Daniel N. Evans, exemptee for the 288-Kilowatt Caroleen Mills Hydroelectric Project No. 7679, filed a letter notifying the Commission that the project was transferred from Daniel N. Evans to James Bocell. The exemption from licensing was originally issued on December 4, 1984.¹ The project is located on the Second Broad River in Rutherford County, North Carolina. The transfer of an exemption does not require Commission approval.

¹ Clearwater Hydro Company, 29 FERC ¶ 62,224 (1984). Subsequently, the project was transferred to Daniel N. Evans, 106 FERC ¶ 62,116 (2004).

James Bocell is now the exemptee of the Caroleen Mills Hydroelectric Project No. 7679. All correspondence must be forwarded to: Mr. James Bocell, c/o Deal First Inc., 4600 Greenville, Suite 288, Dallas, TX 75206, Phone: 913-424-4576, Email: bo@cgitx.com.

Dated: March 25, 2022.
Kimberly D. Bose,
Secretary.

[FR Doc. 2022-06806 Filed 3-30-22; 8:45 am]

BILLING CODE 6717-01-P